DEPARTMENT OF HEALTH AND HUMAN SERVICES

Statement of Organization, Functions, and Delegations of Authority

AGENCY: Office of the Assistant Secretary for Health, Office of Infectious Disease Policy, HHS.

ACTION: Notice.

SUMMARY: The Office of the Assistant Secretary for Health, National Vaccine Program Office organization has modified its organizational structure.

DATES: This new organizational structure was approved by the Secretary of Health and Human Services and takes effect on April 6, 2019.

FOR FURTHER INFORMATION CONTACT: Tara Broido, Acting Director, Office of Communications, Office of the Assistant Secretary for Health, 200 Independence Ave. SW, Room 715-G, Washington, DC 20201, Phone 202.690.7694.

SUPPLEMENTARY INFORMATION: Part A (Office of the Secretary, U.S. Department of Health and Human Services) of the Statement of Organization, Functions, and Delegations of Authority of the Department of Health and Human Services (60 FR 27804, dated October 31, 1995, and corrected at 75 FR 53304, August 31, 2010, and amended most recently at 82 FR 3005, dated January 5, 2017) is amended to reflect the merger of the National Vaccine Prevention Office, Office of the Assistant Secretary for Health (OASH) with the Office of HIV/AIDS and Infectious Disease Policy, OASH and create the Office of Infectious Disease Policy (OIDP), OASH, which will be responsible for administering and implementing the statutory responsibilities of the National Vaccine Program, as well as the current responsibilities of the Office of HIV/AIDS and Infectious Disease Policy. This reorganization is being undertaken to create a more effective structure that better reflects the two offices' missions and streamlines operations.

Under Part C, Section C-P, Organization and Function, make the following changes:

• Retitle all references to the National Vaccine Program Office (ACP) and to the Office of Infectious Disease Policy (ACP).

• Add the current reference to the Office of Infectious Disease Policy (ACP), The Office of Infectious Disease Policy, headed by the Deputy Assistant Secretary for Infectious Disease, will be responsible for providing advice and recommendations to the Assistant Secretary for Health on issues pertaining to: blood and tissues safety and availability; HIV/AIDS, viral hepatitis and other infectious diseases; and vaccines and immunization. The Office of Infectious Disease Policy will be responsible for administering and implementing the statutory responsibilities of the National Vaccine Program.

Under Part C, Section C-J, Organization and Function, make the following changes:

• Delete all references to the organizational structure of the Office of HIV/AIDS and Infectious Disease Policy (ACJ).

• Retitle all references to the function of the Office of HIV/AIDS and Infectious Disease Policy (ACJ) to the Office of Infectious Disease Policy (ACP).

II. Delegations of Authority: All delegations and re-delegations of authority made to officials and employees of affected organizational components will continue in them or their successors pending further redelegation, if allowed, provided they are consistent with this reorganization.

(Authority: 44 U.S.C. 3101)

Alex M. Azar II,
Secretary.

[FR Doc. 2019-07126 Filed 4-10-19; 4:15 pm]

BILLING CODE 4150-44-P